DEPARTMENT OF COMMERCE

National Oceanic and Atmospheric Administration

RIN 0648-XE02

Endangered and Threatened Species; Initiation of a Status Review for Shortnose Sturgeon

AGENCY: National Marine Fisheries Service (NMFS), National Oceanic and Atmospheric Administration (NOAA), Commerce.

ACTION: Notice; request for information.

SUMMARY: We, NMFS, announce the initiation of a status review for shortnose sturgeon (Acipenser brevirostrum), and we solicit information on the status of, and factors and threats affecting, the species. The status review is intended to compile and analyze the best available information on the status of and threats to the species and also consider if shortnose sturgeon should be identified and assessed as Distinct Population Segments.

DATES: Written information regarding the status of, and factors and threats affecting, shortnose sturgeon must be received by January 29, 2008.

ADDRESSES: You may submit comments, identified by “RIN 0648-XE02,” by any one of the following methods:

• Electronic submissions: Submit all electronic public comments via the Federal eRulemaking Portal: http://www.regulations.gov.

• Fax: 978-281-9394, Attention: Dana Hartley.

• Mail: Information on paper, disk or CD-ROM should be addressed to the Assistant Regional Administrator for Protected Resources, NMFS Northeast Regional Office, One Blackburn Drive, Gloucester, MA 01930.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, or Adobe PDF file formats only.

FOR FURTHER INFORMATION CONTACT: Dana Hartley, NMFS, Northeast Regional Office (978) 281-9300 ext. 6514; Stephania Bolden, NMFS, Southeast Regional Office (727) 824-5312; or Marta Nammack, NMFS, Office of Protected Resources, (301) 713-1410.

SUPPLEMENTARY INFORMATION:

Background

NMFS has Endangered Species Act (ESA) jurisdiction of species listed at 50 CFR 223.102 and 224.101. The U.S. Fish and Wildlife Service (USFWS) adds species under NMFS jurisdiction to its official list (List), published at 50 CFR 17.11 (for animals) and 17.12 (for plants). Shortnose sturgeon was listed as an “endangered species threatened with extinction” under the Endangered Species Preservation Act on March 11, 1967. Shortnose sturgeon as a species remained on the endangered species list with the enactment of the ESA. We are conducting a status review to update the biological information on the status of the species. The status review will not only compile and analyze the best available information on the status of and threats to the species, it will also consider if shortnose sturgeon should be identified and assessed as Distinct Population Segments (61 FR 4722; February 1, 1996). Listing or reclassifying distinct vertebrate population segments may allow us to protect and conserve species and the ecosystems upon which they depend before large-scale decline occurs; it may also allow for more timely and less costly protection and recovery on a smaller scale. Any change in the List would require a separate rulemaking process. The regulations at 50 CFR 424.21 state that we will publish a notice in the Federal Register announcing those species under active review. At this time we announce commencement of a status review for shortnose sturgeon, and request information regarding the status of, and factors and threats affecting, the species.

Request for Information

To support this status review, we are soliciting information relevant to the status of, and factors and threats affecting, the species, including, but not limited to, information on the following topics: (1) river-specific historical and current abundance and distribution of the species throughout its range; (2) potential factors affecting the species' current status and past or ongoing decline throughout its range by river; (3) rates of capture and release of the species from both recreational and commercial fisheries; (4) life history information (size/age at maturity, growth rates, fecundity, reproductive rate/success, preferred prey, etc.); (5) molecular information to assist in determining within-species genetic structure and distinctiveness; (6) factors and threats affecting the species' status, particularly: (a) present or threatened destruction, modification, or curtailment of habitat or range; (b) over-utilization for commercial, recreational, scientific, or educational purposes; (c) disease or predation; (d) inadequacy of existing regulatory mechanisms; or (e) other natural or manmade factors affecting its continued existence; and (7) any ongoing conservation efforts for the species.

If you wish to provide information for this review, see DATES and ADDRESSES for guidance on and deadlines for submitting information.

If we determine that a change to the way shortnose sturgeon is entered on the List is appropriate, we will consider the critical habitat provisions of the ESA, such as Section 3 (defining critical habitat) and Section 4 (outlining the procedural and substantive considerations regarding critical habitat) and make the necessary determinations required by those provisions. If you would like to provide information regarding the physical or biological features of shortnose sturgeon habitat, the role they play in the conservation of shortnose sturgeon, and whether any natural or human-induced factors may negatively affect those features, we will accept it at this time. Please note, however, that this notice and request for information should not be construed as an indication that we have made any statutory determinations regarding shortnose sturgeon, including whether to change the List or whether the designation of critical habitat for any newly listed entity is prudent or determinable.

Dated: November 26, 2007.
Helen Golde
Deputy Director, Office of Protected Resources, National Marine Fisheries Service.

[FR Doc. E7-23258 Filed 11-29-07; 8:45 am]

BILLING CODE 3510-22-S